DEPARTMENT OF ENERGY

Federal Energy Regulatory Commission

Combined Notice of Filings #1

Take notice that the Commission received the following electric rate filings:

Docket Numbers: ER20-1720-001.

Applicants: Southern California Edison Company.

Description: Compliance filing: SCE Update Appendix IX, Attachment 2 Formula Rate Compliance Order 864 to be effective 1/27/2020.

Filed Date: 10/9/20.

Accession Number: 20201009-5038.

Comments Due: 5 p.m. ET 10/30/20.

Docket Numbers: ER20-2888-001.

Applicants: Townsite Solar, LLC.

Description: Tariff Amendment: Townsite Solar, LLC MBR Supplement to be effective 9/17/2020.

Filed Date: 9/29/20.

Accession Number: 20200929-5157.

Comments Due: 5 p.m. ET 10/20/20.

Docket Numbers: ER20-3011-001.

Applicants: PJM Interconnection, L.L.C.

Description: Tariff Amendment: Errata to ISA, SA No. 5757; Queue No. AC1-161 in Docket No. ER20-3011 to be effective 8/28/2020.

Filed Date: 10/9/20.

Accession Number: 20201009-5045.

Comments Due: 5 p.m. ET 10/30/20.

Docket Numbers: ER21-76-000.

Applicants: Midcontinent Independent System Operator, Inc.

Description: § 205(d) Rate Filing: 2020-10-09_SA 3340 Iris Solar-Entergy Louisiana 1st Rev GIA (J1184) to be effective 9/25/2020.

Filed Date: 10/9/20.

Accession Number: 20201009-5024.

Comments Due: 5 p.m. ET 10/30/20.

Docket Numbers: ER21-77-000.

Applicants: PJM Interconnection, L.L.C.

Description: § 205(d) Rate Filing: Original WMPA, Service Agreement No. 5804; Queue No. AF2-280 to be effective 9/9/2020.

Filed Date: 10/9/20.

Accession Number: 20201009-5034.

Comments Due: 5 p.m. ET 10/30/20.

Docket Numbers: ER21-78-000.

Applicants: Alabama Power Company.

Description: § 205(d) Rate Filing: Amendment to CED Solar Development (Timberland Solar) Amended and Restated LGIA to be effective 9/12/2020.

Filed Date: 10/9/20.

Accession Number: 20201009-5088.

Comments Due: 5 p.m. ET 10/30/20.

Docket Numbers: ER21-79-000.

Applicants: Southwest Power Pool, Inc.

Description: § 205(d) Rate Filing: Revisions to Establish Minimum TCR Collateral Requirements to be effective 5/1/2021.

Filed Date: 10/9/20.

Accession Number: 20201009-5099.

Comments Due: 5 p.m. ET 10/30/20.

Docket Numbers: ER21-80-000.

Applicants: San Diego Gas & Electric Company.

Description: Compliance filing: Certificate of Concurrence in LGIA Sun Streams (CAISO Service Agreement No. 62) to be effective 10/7/2020.

Filed Date: 10/9/20.

Accession Number: 20201009-5105.

Comments Due: 5 p.m. ET 10/30/20.

Docket Numbers: ER21-81-000.

Applicants: Appalachian Power Company.

Description: § 205(d) Rate Filing: APCo-Town of Bedford Letter Agreement Temporary Install Backup Mobile Substation to be effective 10/9/2020.

Filed Date: 10/9/20.

Accession Number: 20201009-5112.

Comments Due: 5 p.m. ET 10/30/20.

Docket Numbers: ER21-82-000.

Applicants: Soldier Creek Wind, LLC.

Description: Baseline eTariff Filing: Soldier Creek Wind, LLC & Irish Creek Wnd, LLC SIFCA to be effective 10/24/2020.

Filed Date: 10/9/20.

Accession Number: 20201009-5114.

Comments Due: 5 p.m. ET 10/30/20.

Docket Numbers: ER21-83-000.

Applicants: Potomac Electric Power Company, PJM Interconnection, L.L.C.

Description: § 205(d) Rate Filing: PEPCO submits Revisions to OATT, Att. H-9A re: Depreciation Rates to be effective 1/1/2021.

Filed Date: 10/9/20.

Accession Number: 20201009-5124.

Comments Due: 5 p.m. ET 10/30/20.

Docket Numbers: ER21-84-000.

Applicants: Mid-Atlantic Interstate Transmission, LLC, PJM Interconnection, L.L.C.

Description: § 205(d) Rate Filing: Mid-Atlantic Interstate Transmision submits Revised IA SA No. 4577 to be effective 12/9/2020.

Filed Date: 10/9/20.

Accession Number: 20201009-5127.

Comments Due: 5 p.m. ET 10/30/20.

Docket Numbers: ER21-85-000.

Applicants: Mid-Atlantic Interstate Transmission, LLC, PJM Interconnection, L.L.C.

Description: § 205(d) Rate Filing: MAIT submits ECSAs, SA Nos. 5705, 5706, 5707, 5708, 5709 an 5721 to be effective 12/9/2020.

Filed Date: 10/9/20.

Accession Number: 20201009-5133.

Comments Due: 5 p.m. ET 10/30/20.

Docket Numbers: ER21-86-000.

Applicants: Orange County Energy Storage 2 LLC.

Description: Baseline eTariff Filing: Baseline new to be effective 12/9/2020.

Filed Date: 10/9/20.

Accession Number: 20201009-5135.

Comments Due: 5 p.m. ET 10/30/20.

Docket Numbers: ER21-87-000.

Applicants: Mid-Atlantic Interstate Transmission, LLC, PJM Interconnection, L.L.C.

Description: § 205(d) Rate Filing: MAIT submits Operating and Interconnection Agreement Revised SA No. 4578 to be effective 12/9/2020.

Filed Date: 10/9/20.

Accession Number: 20201009-5136.

Comments Due: 5 p.m. ET 10/30/20.

Docket Numbers: ER21-88-000.

Applicants: Orange County Energy Storage 3 LLC.

Description: Baseline eTariff Filing: Baseline new to be effective 12/9/2020.

Filed Date: 10/9/20.

Accession Number: 20201009-5137.

Comments Due: 5 p.m. ET 10/30/20.

Docket Numbers: ER21-89-000.

Applicants: PJM Interconnection, L.L.C.

Description: § 205(d) Rate Filing: Original ISA No. 5795; Queue No. AF1-259 to be effective 9/10/2020.

Filed Date: 10/9/20.

Accession Number: 20201009-5158.

Comments Due: 5 p.m. ET 10/30/20.

Take notice that the Commission received the following electric securities filings:

Docket Numbers: ES21-1-000.

Applicants: New Hampshire Transmission, LLC.

Description: Application Under Section 204 of the Federal Power Act for Authorization to Issue Securities, et al. of New Hampshire Transmission, LLC.

Filed Date: 10/9/20.

Accession Number: 20201009-5134.

Comments Due: 5 p.m. ET 10/30/20.

Docket Numbers: ES21-2-000.

Applicants: DesertLink, LLC.

Description: Application Under Section 204 of the Federal Power Act for Authorization to Issue Securities of DesertLink, LLC.

Filed Date: 10/9/20.

Accession Number: 20201009-5155.

Comments Due: 5 p.m. ET 10/30/20.

Docket Numbers: ES21-3-000.

Applicants: Republic Transmission, LLC.

Description: Application Under Section 204 of the Federal Power Act for Authorization to Issue Securities of Republic Transmission, LLC.

Filed Date: 10/9/20.

Accession Number: 20201009-5156.

Comments Due: 5 p.m. ET 10/30/20.

Docket Numbers: ES21-4-000.

Applicants: Silver Run Electric, LLC.

Description: Application Under Section 204 of the Federal Power Act for Authorization to Issue Securities of Silver Run Electric, LLC.

Filed Date: 10/9/20.

Accession Number: 20201009-5157.

Comments Due: 5 p.m. ET 10/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2020.
Nathaniel J. Davis, Sr.,
Deputy Secretary.

[FR Doc. 2020-23055 Filed 10-16-20; 8:45 am]

BILLING CODE 6717-01-P